DEPARTMENT OF TRANSPORTATION

Federal Railroad Administration

[Docket Number FRA-2012-0087]

Notice of Public Hearing: Norfolk Southern Corporation

The Norfolk Southern Corporation (NS) petitioned the Federal Railroad Administration (FRA) seeking the approval of the proposed discontinuance of automatic signals within traffic control system (TCS) territory and the installation of a cab signal system without automatic wayside signals on the NS Pittsburgh Line, from Harrisburg, PA, Milepost (MP) PT 104.90 to Pittsburgh, PA, MP PT 353.35. All existing automatic signals on this line will be removed.

This proceeding is identified as FRA block signal application Docket Number FRA-2012-0087. A copy of NS's full petition is available for review online at http://www.regulations.gov under the docket number identified above.

FRA conducted a field investigation in this matter and issued a public notice seeking comments from interested parties. See 77 FR 74736 (December 17, 2012). After examining NS's proposal, the comments to NS's proposal, and the available facts, FRA determined that a public hearing is necessary before a final decision is made on NS's block signal application. Accordingly, FRA invites all interested parties to participate in a public hearing on July 23, 2013. The hearing will be conducted at the Moon Township Building, 1000 Beaver Grade Road, Moon Township, PA 15108. The hearing will begin at 9:00 a.m. Interested parties are invited to present oral statements at the hearing. For information on facilities or services for persons with disabilities, or to request special assistance at the hearing, contact Ms. Tiffany McAlpine, Administrative Staff Assistant, by telephone, email, or in writing, at least 5 business days before the date of the hearing. Ms. McAlpine's contact information is as follows: FRA, Office of Chief Counsel, Mail Stop 10, 1200 New Jersey Avenue SE., Washington, DC 20590; telephone: (202) 493-6055; email: Tiffany.McAlpine@dot.gov. Alternatively, you may contact Mr. Paul Weber, Railroad Safety Specialist, Signal and Train Control Division, at (202) 493-6258 or Paul.Weber@dot.gov.

The hearing will be conducted in accordance with Rule 25 of the FRA Rules of Practice (49 CFR 211.25) by a representative designated by FRA. The hearing will be a nonadversarial proceeding; therefore, there will be no cross-examination of persons presenting statements. An FRA representative will make an opening statement outlining the scope of the hearing. After all initial statements have been completed, those persons wishing to make brief rebuttal statements will be given the opportunity to do so in the same order in which they made their initial statements. Additional procedures, if necessary for the conduct of the hearing, will be announced at the hearing.

Issued in Washington, DC, on June 3, 2013.
Robert C. Lauby,
Deputy Associate Administrator for Regulatory and Legislative Operations.

[FR Doc. 2013-13470 Filed 6-5-13; 8:45 am]

BILLING CODE 4910-06-P